DEPARTMENT OF THE INTERIOR

Fish and Wildlife Service

Receipt of Application of Endangered Species Recovery Permits

AGENCY: Fish and Wildlife Service, Interior.

ACTION: Notice of availability and receipt of applications.

SUMMARY: We announce our receipt of applications to conduct certain activities pertaining to enhancement of survival of endangered species.

DATES: Written comments on these requests for a permit must be received by December 21, 2007.

ADDRESSES: Written data or comments should be submitted to the Assistant Regional Director, Fisheries-Ecological Services, U.S. Fish and Wildlife Service, P.O. Box 25486, Denver Federal Center, Denver, Colorado 80225-0486; facsimile 303-236-0027. Documents and other information submitted with these applications are available for review, subject to the requirements of the Privacy Act [5 U.S.C. 552A] and Freedom of Information Act [5 U.S.C. 552], by any party who submits a request for a copy of such documents within 30 days of the date of publication of this notice to Kris Olsen, by mail or by telephone at 303-236-4256. All comments received from individuals become part of the official public record.

SUPPLEMENTARY INFORMATION: The following applicants have requested issuance of enhancement of survival permits to conduct certain activities with endangered species pursuant to section 10(a)(1)(A) of the Endangered Species Act of 1973, as amended (16 U.S.C. 1531 et seq.).

Applicant—U.S. Forest Service, Bridger-Teton National Forest, Pinedale, Wyoming, TE-106387. The applicant requests a renewed permit to take Kendall Warm Springs dace (Rhinichthys osculus thermalis) in conjunction with recovery activities throughout the species' range for the purpose of enhancing their survival and recovery.

Applicant—Kansas Department of Wildlife and Parks, Independence, Kansas, TE-052005. The applicant requests a renewed permit to take American burying beetle (Nicrophorus americanus) in conjunction with recovery activities throughout the species' range for the purpose of enhancing their survival and recovery.

Applicant—U.S. Fish and Wildlife Service, Bozeman Fish Technology Center, Bozeman, Montana, TE-038970. The applicant requests a permit amendment to increase take of June suckers (Chasmistes liorus) from 5 to 20 mortalities in conjunction with recovery activities throughout the species' range for the purpose of enhancing its survival and recovery.

Applicant—Fort Hays University, Department of Biological Sciences, Hays, Kansas, TE-161445. The applicant requests a permit to take Topeka shiner (Notropis topeka) in conjunction with recovery activities throughout the species' range for the purpose of enhancing their survival and recovery.

Applicant—California Academy of Science, Steinhart Aquarium, San Francisco, California, TE-161444. The applicant requests a permit to possess pallid sturgeon (Scaphirhynchus albus) for public display and propagation in conjunction with recovery activities for the purpose of enhancing their survival and recovery.

Applicant—Bureau of Land Management, Utah State Office, Salt Lake City, Utah, TE-165829. The applicant requests a permit to take Arctomecon humilis (Dwarf bear-poppy), Asclepias welshii (Welsh's milkweed), Astragalus ampullarioides (Shivwitz milk-vetch), Astragalus holmgreniorum (Holmgren milk-vetch), Carex specuicola (Navajo sedge), Cycladenia humilis jonesii (Jones cycladenia), Erigeron maguirei (Maguire daisy), Lepidium barnebyanum (Barneby ridge-cress), Lesquerella tumulosa (Kodachrome bladderpod), Pediocactus despainii (San Rafael cactus), Pediocactus sileri (Siler pincushion cactus), Pediocactus winkleri (Winkler cactus), Schoenocrambe argillacea (Clay reed-mustard), Schoenocrambe barnebyi (Barney reed-mustard), Schoenocrambe suffrutescens (Shrubby reed-mustard), Sclerocactus glaucus (Uinta Basin hookless cactus), Sclerocactus wrightiae (Wright fishhook cactus), Spiranthes diluvialis (Ute ladies'-tresses), Townsendia aprica (Last Chance townsendia) in conjunction with recovery activities throughout the species' range for the purpose of enhancing their survival and recovery.

Applicant—Dorde Woodruff, Salt Lake City, Utah, TE-165826. The applicant requests a permit to take Sclerocactus glaucus (Uinta Basin hookless cactus) in conjunction with recovery activities throughout the species' range for the purpose of enhancing their survival and recovery.

Applicant—University of Montana, Division of Biological Sciences, Missoula, Montana, TE-165827. The applicant requests a permit to take Spiranthes diluvialis (Ute ladies'-tresses) in conjunction with recovery activities throughout the species' range for the purpose of enhancing their survival and recovery.

Dated: October 30, 2007.
Emily Jo Williams,
Regional Director, Denver, Colorado.

[FR Doc. E7-22730 Filed 11-20-07; 8:45 am]

BILLING CODE 4310-55-P